DEPARTMENT OF ENERGY

Federal Energy Regulatory Commission

[Project No. 1517-029]

Monroe City, Utah; Notice of Application Tendered for Filing With the Commission and Soliciting Additional Study Requests and Establishing Procedural Schedule for Licensing and a Deadline for Submission of Final Amendments

Take notice that the following hydroelectric application has been filed with the Commission and is available for public inspection.

a. Type of Application: New Minor License.

b. Project No.: 1517-029.

c. Date filed: July 29, 2025.

d. Applicant: Monroe City, Utah.

e. Name of Project: Upper Monroe Hydroelectric Project.

f. Location: The existing project is located on Monroe Creek, Shingle Creek, Serviceberry Creek, and First Left Hand Fork of Monroe Creek near the town of Monroe City in Sevier County Utah. The project affects 11.84 acres of Federal land managed by the U.S. Forest Service.

g. Filed pursuant to: Federal Power Act 16 U.S.C. 791(a)-825(r).

h. Applicant Contact: Jenna Jorgensen, Jones and DeMille Engineering; Phone at (435) 896-8266; or email at jenna.j@jonesanddemille.com.

i. FERC Contact: Lee Baker at (202) 502-8554 or at everard.baker@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: on or before 5:00 p.m. Eastern Time on September 29, 2025.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Upper Monroe Hydroelectric Project (P-1517-029).

m. The application is not ready for environmental analysis at this time.

n. The existing project works consist of: (1) a small diversion structure on each of the following three streams: First Lefthand Fork of Monroe Creek, Shingle Creek, and Serviceberry Creek; (2) an 11,200-foot-long, 8-inch-diameter penstock leading from the diversion structure on First Lefthand Fork of Monroe Creek to the powerhouse; (3) a 3,500-foot-long 6-inch-diameter penstock leading from the diversion structure on Shingle Creek to a point on the First Lefthand Fork penstock 7,400 feet upstream from the powerhouse; (4) a 12,900-foot-long 8-inch-diameter penstock leading from the diversion structure on Serviceberry Creek to a point on the First Lefthand Fork penstock 15 feet upstream from the powerhouse; (5) a 500-square-foot rock masonry and concrete powerhouse containing one generating unit with an installed capacity of 260 kilowatts (kW); (6) a tailrace returning the water to Monroe Creek; (7) a 0.82-mile-long, 12.5 kV three-phase overhead transmission line extending from the powerhouse to Monroe City's distribution line in Monroe Canyon; and (8) appurtenant facilities.

Monroe City is not proposing any changes to project facilities or operation.

o. Copies of the application may be viewed on the Commission's website at http://www.ferc.gov using the “eLibrary” link. Enter the docket number, excluding the last three digits, in the docket number field to access the document. For assistance, contact FERC Online Support at FERCOnlineSupport@ferc.gov or call tollfree, (866) 208-3676 or (202) 502-8659 (TTY).

You may also register online at http://www.ferc.gov/docs-filing/esubscription.asp to be notified via email of new filings and issuances related to this or other pending projects. For assistance, contact FERC Online Support.

p. The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

q. Procedural schedule: The application will be processed according to the following preliminary schedule. Revisions to the schedule will be made as appropriate.

Milestone | Target date
Issue Deficiency Letter (if necessary) | September 27, 2025.
Issue Scoping Document 1 for comments | December 11, 2025.
Issue Acceptance Letter | January 10, 2026.
Request Additional Information (if necessary) | January 10, 2026.
Issue Scoping Document 2 (if necessary) | February 26, 2026.
Issue Notice of Ready for Environmental Analysis | February 26, 2026.

r. Final amendments to the application must be filed with the Commission no later than 30 days from the issuance date of the notice of ready for environmental analysis.

Dated: August 7, 2025.
Debbie-Anne A. Reese,
Secretary.

[FR Doc. 2025-15275 Filed 8-11-25; 8:45 am]

BILLING CODE 6717-01-P